DEPARTMENT OF ENERGY

Federal Energy Regulatory Commission

[Docket No. EL02-118-000]

GenPower Anderson, LLC, FPL Energy Anderson, LLC, and Mountain Creek 2001 Trust, Complainants, v. Duke Energy Corporation and Duke Electric Transmission, Respondents; Notice of Complaint

August 13, 2002.

Take notice that on August 12, 2002, Gen Power Anderson, LLC, FPL Energy Anderson, LLC and Mountain Creek 2001 Trust (together, Complainants) submitted a Complaint against Duke Energy Corporation and Duke Electric Transmission (together, Duke) as transmission provider.

In the Complaint, Complainants allege that Duke has violated Section 205 of the Federal Power Act (FPA) by attempting to collect payments under an interconnection Letter Agreement that Duke has not filed with the Federal Energy Regulatory Commission, by continuing to assess new and additional charges under the unfiled Letter Agreement after a stop work request by GenPower Anderson, LLC and expiration of the unfiled Letter Agreement, and by attempting to collect payments greater than the maximum allowed by the unfiled Letter Agreement. Complainants request that the Commission direct Duke to cease and desist attempting to collect payments under the unfiled Letter Agreement and direct Duke to refund payments obtained by Duke that are not authorized by the unfiled Letter Agreement together with time-value refunds.

Copies of the Complaint were served via e-mail, facsimile and overnight mail on Duke and via e-mail and messenger on counsel for Duke.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before August 22, 2002. This filing is available for review at the Commission in the Public Reference Room or may be viewed on the Commission's website at http://www.ferc.gov using the “FERRIS” link. Enter the docket number excluding the last three digits in the docket number field to access the document. For Assistance, call (202) 502-8222 or for TTY, (202) 208-1659. The answer to the complaint, comments, protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-20981 Filed 8-16-02; 8:45 am]

BILLING CODE 6717-01-P